DEPARTMENT OF THE TREASURY

Internal Revenue Service

26 CFR Part 1

[REG-114206-11]

RIN 1545-BK21

Encouraging New Markets Tax Credit Non-Real Estate Investments; Correction

AGENCY: Internal Revenue Service (IRS), Treasury.

ACTION: Correction to advance notice of proposed rulemaking.

SUMMARY: This document contains a correction to advance notice of proposed rulemaking (REG-114206-11) that was published in the Federal Register on Tuesday, June 7, 2011 (76 FR 32880). This document invites comments from the public on how the new markets tax credit program may be amended to encourage non-real estate investments.

FOR FURTHER INFORMATION CONTACT: Julie Hanlon-Bolton, (202) 622-3040 (not a toll-free number).

SUPPLEMENTARY INFORMATION:

Background

The correction notice that is the subject of this document is under section 45D of the Internal Revenue Code.

Need for Correction

As published, the advance notice of proposed rulemaking (REG-114206-11) contains an error that may prove to be misleading and is in need of clarification.

Correction of Publication

Accordingly, the publication of advance notice of proposed rulemaking (REG-114206-11), which was the subject of FR Doc. 2011-13981, is corrected as follows:

On page 32881, column 2, in the preamble, under the paragraph heading “Background”, second paragraph of the column, fourth line, the language “nonprofit corporation) or partnership if” is corrected to read “nonprofit corporation) or partnership, if”.

LaNita Van Dyke,
Chief, Publications and Regulations Branch, Legal Processing Division, Associate Chief Counsel (Procedure and Administration).

[FR Doc. 2011-16824 Filed 7-5-11; 8:45 am]

BILLING CODE 4830-01-P